NATIONAL SCIENCE FOUNDATION

Sunshine Act Meetings

The National Science Board's Committee on Strategy's Subcommittee on Technology, Innovation and Partnerships hereby gives notice of the scheduling of a teleconference for the transaction of National Science Board business pursuant to the NSF Act and the Government in the Sunshine Act.

TIME AND DATE: Wednesday, July 26, 2023, from 1:00—2:00 p.m. EDT.

PLACE: This meeting will be via videoconference through the National Science Foundation, 2415 Eisenhower Avenue, Alexandria, VA 22314.

STATUS: Closed.

MATTERS TO BE CONSIDERED: The agenda is: Subcommittee Chair's opening remarks regarding the agenda; Update on NSF's Regional Innovation Engine (“Engines”) Selection Methodology Document; Discussion of Engines progress monitoring and interim goals & metrics, and Input on fostering Regional Innovation for the Office of Science and Technology Policy's Quadrennial Science and Technology Review (S-TIP members only).

CONTACT PERSON FOR MORE INFORMATION: Point of contact for this meeting is: Chris Blair, cblair@nsf.gov, 703/292-7000. Meeting information and updates may be found at www.nsf.gov/nsb.

Christopher Blair,
Executive Assistant to the National Science Board Office.

[FR Doc. 2023-15805 Filed 7-21-23; 11:15 am]

BILLING CODE 7555-01-P